DEPARTMENT OF COMMERCE

International Trade Administration

[A-570-922, A-583-842]

Raw Flexible Magnets From the People's Republic of China and Taiwan: Final Results of the Expedited Third Sunset Reviews of the Antidumping Duty Orders

AGENCY: Enforcement and Compliance, International Trade Administration, Department Commerce.

SUMMARY: As a result of these third expedited sunset reviews, the U.S. Department of Commerce (Commerce) finds that revocation of the antidumping duty orders on raw flexible magnets from the People's Republic of China (China) and Taiwan would be likely to lead to continuation or recurrence of dumping at the levels indicated in the “Final Results of Expedited Sunset Reviews” section of this notice.

DATES: Applicable September 27, 2024.

FOR FURTHER INFORMATION CONTACT: Garry Kasparov, AD/CVD Operations, Office I, Enforcement and Compliance, International Trade Administration, U.S. Department of Commerce, 1401 Constitution Avenue NW, Washington, DC 20230; telephone: (202) 482-1397.

SUPPLEMENTARY INFORMATION:

Background

On June 3, 2024, Commerce published in the Federal Register the initiation of the third sunset reviews of antidumping duty orders on raw flexible magnets from China and Taiwan pursuant to section 751(c) of the Tariff Act of 1930, as amended (the Act).¹

¹ See Initiation of Five-Year (Sunset) Reviews, 89 FR 47525 (June 3, 2024); see also Antidumping Duty Order; Raw Flexible Magnets from the People's Republic of China, 73 FR 53847 (September 17, 2008); and Antidumping Duty Order: Raw Flexible Magnets from Taiwan, 73 FR 53848 (September 17, 2008) (collectively, Orders).

On June 14, 2024, we received a timely notice of intent to participate in these sunset reviews from Magnum Magnetics Corporation (Magnum), a domestic interested party, pursuant to 19 CFR 351.218(d)(1)(i).² Magnum claimed interested party status under section 771(9)(C) of the Act as a manufacturer of a domestic like product in the United States. On June 28, 2024, Magnum provided complete substantive responses for these reviews within the 30-day deadline specified in 19 CFR 351.2218(d)(3)(i).³ Commerce did not receive substantive responses from any respondent parties, and no party requested a hearing.

² See Magnum's Letters, “Notice of Intent to Participate,” dated June 14, 2024.

³ See Magnum's Letters, “Substantive Response,” dated June 28, 2024.

On July 23, 2024, Commerce notified the U.S. International Trade Commission that it did not receive an adequate substantive response from other interested parties.⁴ As a result, in accordance with section 751(c)(3)(B) of the Act and 19 CFR 351.218(e)(1)(ii)(C)(2), Commerce conducted expedited, i.e., 120-day, sunset reviews of the Orders. On July 22, 2024, Commerce tolled certain deadlines in this administrative proceeding by seven days.⁵ The deadline for these final results is now October 8, 2024.

⁴ See Commerce's Letter, “Sunset Reviews Initiated on June 3, 2024,” dated July 23, 2024.

⁵ See Memorandum, “Tolling of Deadlines for Antidumping and Countervailing Duty Proceedings,” dated July 22, 2024.

Scope of the Orders

The products covered by the Orders are are certain flexible magnets regardless of shape, color, or packaging. For a full description of the scope of the Orders, see the Issues and Decision Memorandum.⁶

⁶ See Memorandum, “Decision Memorandum for the Final Results of the Expedited Third Sunset Reviews of the Antidumping Duty Orders on raw flexible magnets from the People's Republic of China and Taiwan,” dated concurrently with, and hereby adopted by, this notice (Issues and Decision Memorandum).

Analysis of the Comments Received

A complete discussion of all issues raised in this sunset review, including the likelihood of continuation or recurrence of dumping and the magnitude of the dumping margin likely to prevail if the Order were to be revoked, is provided in the accompanying Issues and Decision Memorandum.⁷ A list of topics discussed in the Issues and Decision Memorandum is included as the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁷ Id.

Final Results of Sunset Reviews

Pursuant to sections 751(c)(1) and 752(c)(1) and (3) of the Act, Commerce determines that revocation of the Orders would be likely to lead to continuation or recurrence of dumping and that the magnitude of the margins of dumping likely to prevail would be margins up to 185.28 percent for China and up to 38.03 percent for Taiwan.

Administrative Protective Order

This notice serves as the only reminder to parties subject to an administrative protective order (APO) of their responsibility concerning the disposition of proprietary information disclosed under APO in accordance with 19 CFR 351.305(a). Timely written notification of the return or destruction of APO materials or conversion to judicial protective order is hereby requested. Failure to comply with the regulations and terms of an APO is a violation which is subject to sanction.

Notification to Interested Parties

We are issuing, and publishing notice of, the final results of these sunset reviews in accordance with sections 751(c), 752(c), and 777(i)(1) of the Act and 19 CFR 351.218(e)(1)(ii)(C)(2) and 19 CFR 351.221(c)(5)(ii).

Dated: September 23, 2024.
Abdelali Elouaradia,
Deputy Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margins of Dumping Likely To Prevail

VII. Final Results of Expedited Sunset Reviews

VIII. Recommendation

[FR Doc. 2024-22201 Filed 9-26-24; 8:45 am]

BILLING CODE 3510-DS-P